DEPARTMENT OF HEALTH AND HUMAN SERVICES

Administration for Children and Families

Office of Child Support Enforcement; Notice of Consultation

AGENCY: Administration for Children and Families, Department of Health and Human Services.

ACTION: Notice of Tribal Consultation.

SUMMARY: The Department of Health and Human Services, Administration for Children and Families (ACF), Office of Child Support Enforcement (OCSE) will host a Tribal Consultation to consult on the implementation of Section 302 of Public Law 113-183, the Preventing Sex Trafficking and Strengthening Families Act of 2014 (Act).

DATES: May 20, 2015

ADDRESSES: 901 D Street SW., Room 4 E 8, the Aerospace Building, Washington, DC 20447.

FOR FURTHER INFORMATION CONTACT: Paige Hausburg, Tribal Coordinator, OCSE, at (202) 401-5635, by email at Paige.Hausburg@acf.hhs.gov, or by mail at 370 L'Enfant Promenade SW., 4th Floor East, Washington, DC 20447.

SUPPLEMENTARY INFORMATION: On September 29, 2014, the President signed Public Law 113-183, the Preventing Sex Trafficking and Strengthening Families Act of 2014 (Act). Section 302 of the Act, which authorizes direct access to the Federal Parent Locator Service (FPLS), is below.

Section 302. Child Support Enforcement Programs for Indian Tribes

a. Tribal Access to the FPLS. The law amends section 453(c)(1) of the Act to add an agent or attorney of an “Indian tribe or tribal organization [as defined in subsections (e) and (l) of section 4 of the Indian Self-Determination and Education Assistance Act (25 U.S.C. 450b)]” as an additional authorized person that the FPLS may provide information for the purpose of establishing parentage or establishing, setting the amount of, modifying, or enforcing child support obligations.

b. Waiver Authority for Indian Tribes or Tribal Organizations Operating Child Support Enforcement Programs. The law amends section 1115(b) of the Act to provide that an Indian tribe or tribal organization operating a IV-D program shall be considered a state for purposes of authority to conduct an experimental, pilot, or demonstration project. The Secretary may waive compliance with any requirements or regulations to the extent and for the period the Secretary finds necessary for an Indian tribe or tribal organization to carry out such project. Costs of the project that would not otherwise be included as expenditures of a program shall, to the extent and for the period prescribed by the Secretary, be regarded as expenditures under a tribal plan or plans approved under such section or for the administration of such tribal plan or plans as may be appropriate. A start-up program is not eligible for this program.

On October 16, 2014, OCSE hosted a Tribal IV-D Directors call to discuss Section 302. During that call, OCSE described FPLS access to the National Directory of New Hires (NDNH), Federal Case Registry (FCR), External locates, Multistate Financial Institution Data Match (MSFIDM) and Insurance Match (IM).

On January 14, 2015, OCSE sent an email message to the Tribal IV-D Director's listserv to inform directors that OCSE was conducting an analysis of tribal access to key FPLS functions including the NDNH, FCR, External locates, Department of Defense (DOD) Entitlements, and Employer Search, using the federal Child Support portal. OCSE can provide access to these functions via the internet without tribal cases being registered on the FCR or debtors being submitted for MSFIDM and IM.

During consultation OCSE wants to discuss and gather information about the implications and responsibilities of FPLS access.

Discussion Topics

• What FPLS access means

• Requirements and design

• Discussion about the legislative requirements for fees

○ Required by statute to charge a fee for FPLS data

○ Standard fee methodology that is designed to distribute costs to all users

○ Start-up fee to cover additional administrative and development costs

○ How fees will be paid

• Security agreements

○ Security posture, security controls, and how the FPLS data is protected

○ Required physical security

○ Required security agreements

• Training for access

○ OCSE training

○ Best method/frequency for training

• Phased access of FPLS

○ Locates, FCR Query, DOD Entitlements, and Employer Search

○ Tribal cases on the FCR

○ MSFIDM and IM—to take advantage of these remedies cases must be on the debtor file

• Conversations with Tribal IV-D Directors

○ Number and Frequency of meetings

• Project Plan

○ Requirements/analysis/design by August 2015

○ Development and testing by January 2016

○ Implementation and Training January-February 2016

Testimonies should be submitted no later than May 15, 2015, to: Vicki Turetsky, Commissioner, Office of Child Support Enforcement, 370 L'Enfant Promenade SW., Washington, DC 20447.

Testimonies may also be submitted to this email address: Paige.Hausburg@acf.hhs.gov. Registration to attend the consultation can be done using this link: http://events.constantcontact.com/register/event?llr=vt7m85dab&oeidk=a07eau2syfc09b2fe8f.

Please register by May 18, 2015, so that OCSE can include everyone registered in the building access system to assure their entry. OCSE is located in a federal building and the security protocol requires government identification.

OCSE understands that resources are limited and travel may not be possible for some tribal leaders. In order to engage as many tribal leaders as possible, individuals who are unable to travel to Washington, DC, can connect to the meeting via a conference call. The call-in number is 1-866-642-2926, participant passcode is 1436048. The URL for the webinar is: http://hhs.adobeconnect.com/drotribal/. To join by phone, please register using the link above.

Dated: April 16, 2015.
Donna Bonar,
Deputy Commissioner, Office of Child Support Enforcement.

[FR Doc. 2015-09351 Filed 4-21-15; 8:45 am]

BILLING CODE 4184-41-P